DEPARTMENT OF COMMERCE

National Oceanic and Atmospheric Administration

Proposed Information Collection; Comment Request; Atlantic Mackerel, Squid, and Butterfish Amendment 14 Data Collection

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 27, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Daniel Luers, Greater Atlantic Region, Sustainable Fisheries Office, 55 Great Republic Drive, Gloucester, MA 01930, (978) 282-8457, or Daniel.Luers@noaa.gov.

SUPPLEMENTARY INFORMATION:

I. Abstract

This request is for extension of a current information collection. Under the Magnuson-Stevens Fishery Conservation and Management Act, the Secretary of Commerce has the responsibility for the conservation and management of marine fishery resources. Much of this responsibility has been delegated to NOAA's National Marine Fisheries Service (NMFS). Under this stewardship role, the Secretary was given certain regulatory authorities to ensure the most beneficial uses of these resources. One of the regulatory steps taken to carry out the conservation and management objectives is to collect information from users of the resources.

This collection requires vessel trip reports (VTRs) to be submitted weekly for all mackerel, squid, and butterfish permit holders. In addition, all limited access mackerel and longfin squid/butterfish moratorium permit holders must maintain a VMS unit on their vessels and declare intent to target Atlantic mackerel or longfin squid and submit daily catch reports via VMS. They must also submit daily catch reports via VMS. Vessels that land over 20,000 lb of mackerel must notify NMFS Office of Law Enforcement (OLE) via VMS of the time and place of offloading at least 6 hours prior to crossing the VMS demarcation line on their return trip to port, or if the vessel does not fish seaward of the VMS demarcation line, at least 6 hours prior to landing.

This collection also requires limited access mackerel and longfin squid/butterfish moratorium permit holders to bring all catch aboard the vessel and make it available for sampling by an observer. If catch is not made available to an observer before discard, that catch is defined as slippage, and the vessel operator must complete a “Released Catch Affidavit” form within 48 hours of the end of the fishing trip which details why catch was slipped, estimates the quantity and species composition of the slipped catch, and records the time and location of the slipped catch.

Finally, this collection requires any vessel with a limited access mackerel permit intending to land over 20,000 lbs of mackerel to contact NMFS at least 48 hours in advance of a fishing trip to request an observer. Vessels currently contact NMFS via phone, and selection notices or waivers are issued by NMFS via VMS. If service providers are unable to provide coverage, an owner, operator, or vessel manager may request a waiver by calling the Northeast Fisheries Observer Program.

II. Method of Collection

Information is submitted on paper, electronically or by telephone.

III. Data

OMB Control Number: 0648-0679.

Form Number(s): None.

Type of Review: Regular (extension of a current information collection).

Affected Public: Business or other for-profit organizations; individual or households, state, local, or tribal government.

Estimated Number of Respondents: 426.

Estimated Total Annual Burden Hours: 3,751.

Estimated Total Annual Cost to Public: $642,311 in recordkeeping/reporting costs.

Estimated Time per Response: Vessel trip reports, 5 minutes; VMS activity declarations, 5 minutes; released catch affidavit form, 5 minutes observer pre-trip notification of trip, 5 minutes; trip cancellation, 1 minute.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 20, 2016.
Sarah Brabson,
NOAA PRA Clearance Officer.

[FR Doc. 2016-25734 Filed 10-24-16; 8:45 am]

BILLING CODE 3510-22-P